DEPARTMENT OF THE INTERIOR

Office of the Secretary

[245D0102DM, DS62600000, DLSN 00000.000000, DX62601]; OMB Control Number 1090-NEW]

Agency Information Collection Activities; DOI Performance Progress Report (PPR)

AGENCY: Office of the Secretary, Interior.

ACTION: Notice of information collection; request for comment.

SUMMARY: In accordance with the Paperwork Reduction Act of 1995, we, the Office of the Secretary, Office of Grants Management are proposing a new information collection.

DATES: Interested persons are invited to submit comments on or before August 27, 2024.

ADDRESSES: Send your comments on this information collection request (ICR) by mail to Cara Whitehead, Director, Office of Grants Management, Department of the Interior, 1849 C Street NW, Mail Stop 3023 MIB, Washington, DC 20240; email Cara_Whitehead@ios.doi.gov; telephone 202-208-3100. Please reference OMB Control Number 1090-NEW-PPR in the subject line of your comments.

FOR FURTHER INFORMATION CONTACT: To request additional information about this ICR, contact Cara Whitehead, Director, Office of Grants Management, Department of the Interior, 1849 C Street NW, Mail Stop 3023 MIB, Washington, DC 20240; email Cara_Whitehead@ios.doi.gov; telephone 202-208-3100. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract

DOI's Grants Management Program is proposing the new collection of program performance data for DOI's discretionary grantees modeled on the existing form used by Health and Human Services, Administration for Children and Families (OMB #0970-0406, expiration January 31, 2026) form with minor changes. DOI revisions include collection of the Unique Entity Identifier (UEI) instead of the Data Universal Numbering System (DUNS), a rewording of the submission instructions to replace DUNS to the UEI, and revision of reporting due dates in compliance with the revisions of 2 CFR part 200. The form was created from the basic template of the OMB-approved reporting format of the Program Performance Report. DOI uses this data to ensure grantees are proceeding in a satisfactory manner in meeting the approved goals and objectives of the project and if funding should be continued for another budget period.

OMB grants policy requires grantees to report on performance. Specific citations are contained in 2 CFR 200.329, “Monitoring and reporting program performance.”

Title of Collection: Department of the Interior Performance Progress Report (PPR).

OMB Control Number: 1090-NEW.

Form Number: None.

Type of Review: New approved collection.

Respondents/Affected Public: All DOI discretionary grantees. State governments, Native American Tribal governments, Native American Tribal organizations, local governments, universities, and nonprofits with 501(c)(3) status with the IRS.

Total Estimated Number of Annual Respondents: 14,000.

Total Estimated Number of Annual Responses: 2.

Estimated Completion Time per Response: 1 hour.

Total Estimated Number of Annual Burden Hours: 28,000.

Respondent's Obligation: Mandatory based upon the post-award financial assistance reporting requirements identified in the notice of funding opportunity and award documents.

Frequency of Collection: Varies based upon on the requirements of the financial assistance program.

Total Estimated Annual Non-hour Burden Cost: Not applicable.

An agency may not conduct or sponsor and a person is not required to respond to a collection of information unless it displays a currently valid OMB control number.

The authority for this action is the Paperwork Reduction Act of 1995 (44 U.S.C. 3501 et seq.).

Jeffrey Parrillo,
Departmental Information Collection Clearance Officer.

[FR Doc. 2024-14294 Filed 6-27-24; 8:45 am]

BILLING CODE 4334-63-P